DEPARTMENT OF ENERGY

Federal Energy Regulatory Commission

[Docket No. RP00-427-001]

Sabine Pipe Line LLC; Notice of Compliance Filing

September 19, 2000.

Take notice that on September 13, 2000 Sabine Pipe Line LLC (Sabine) tendered for filing as part of its FERC Gas Tariff, Original Volume No. 1, the following substitute tariff sheets to comly with the Commission's letter order issued in the captioned proceeding on August 25, 2000, which accepted these tariff sheets to be effective March 27, 2000. The substitute tariff sheets revise the issue date and effective date of the tariff sheets, but contain no textual changes.

Substitute First Revised Sheet No. 250

Substitute Original Sheet No. 250A

Substitute First Revised Sheet No. 252

Substitute First Revised Sheet No. 255

Substitute First Revised Sheet No. 267

Substitute First Revised Sheet No. 267A

Sabine states that copies of this filing are being mailed to its customers, state commissions and other interested parties.

Any person desiring to protest this filing should file a protest with the Federal Energy Regulatory Commission, 888 First Street, NE., Washington, DC 20426, in accordance with section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-24519 Filed 9-22-00; 8:45 am]

BILLING CODE 6717-01-M